DEPARTMENT OF AGRICULTURE

Forest Service

Grand Mesa, Uncompahgre and Gunnison National Forests; Colorado; Revision of the Land and Resource Management Plan for the Grand Mesa, Uncompahgre and Gunnison National Forests

AGENCY: Forest Service, USDA.

ACTION: Notice of Intent to revise the Grand Mesa, Uncompahgre and Gunnison Land and Resource Management Plan and to prepare an Environmental Impact Statement.

SUMMARY: The U.S. Department of Agriculture, Forest Service, is revising the existing Grand Mesa, Uncompahgre, and Gunnison (GMUG) National Forests' Land and Resource Management Plan (Forest Plan). The Forest Service will prepare an Environmental Impact Statement (EIS) for its revised Forest Plan.

This notice briefly describes the preliminary needs for change that will be used to develop a revised Forest Plan, the nature of the decision to be made, and information concerning public participation. This notice also describes estimated dates for filing the EIS, the name and address of the responsible agency officials, and the individuals who can provide additional information. Finally, this notice identifies the applicable planning rule that will be used for completing the plan revision.

DATES: Comments concerning the preliminary need for change provided in this notice must be received by May 3, 2018. The Draft EIS is expected in the spring of 2019, and the Final EIS is expected in the spring of 2020.

ADDRESSES: Comments may be submitted electronically online at http://www.fs.usda.gov/goto/gmug/forestplan_comments. Written comments concerning this notice should be addressed to GMUG National Forests, Attn: Forest Plan Revision Team, 2250 S. Main St., Delta, CO 81416. Comments may also be sent via email to gmugforestplan@fs.fed.us with the subject line: “Scoping Comment,” or via facsimile to 970-874-6698. All comments, including names and addresses when provided, are placed in the record and are available for public inspection and copying. The public may inspect comments received by visiting the public reading room online at http://www.fs.usda.gov/goto/gmug/forestplan_readingroom.

FOR FURTHER INFORMATION CONTACT: Forest Plan Revision Team Leader Samantha Staley o (970-874-6666) or Assistant Forest Planner Brittany Duffy (970-874-6649) via email at gmugforestplan@fs.fed.us or mail at GMUG National Forests, Attn: Forest Plan Revision Team, 2250 S. Main St., Delta, CO 81416. Additional information concerning the planning process can be found online at http://www.fs.usda.gov/goto/gmug/forestplan.

Individuals who use telecommunication devices for the deaf (TDD) may call the Federal Information Relay Service (FIRS) at 1-800-877-8339 between 8 a.m. and 8 p.m., Eastern Time, Monday through Friday.

SUPPLEMENTARY INFORMATION: The revised GMUG Forest Plan will replace the existing 1983 GMUG Forest Plan, as amended. The existing Forest Plan will remain in effect until the revised Forest Plan takes effect. In response to this notice we are asking for comments on the preliminary need for change, distinctive role and contribution of the Forests, and proposed management area framework. The full text of the preliminary need for change and additional materials and information on public engagement opportunities can be found at http://www.fs.usda.gov/goto/gmug/forestplan by clicking on the link of interest. Input gathered during this scoping period, as well as other information, will be used to prepare the Draft Forest Plan and the Draft EIS.

Purpose and Need for Action

The purpose and need for revising the current Forest Plan is (1) the 1983 Forest Plan, as amended, needs revision per the National Forest Management Act, which requires Forest Plans to be revised on a 10 to 15 year cycle, and (2) to address the preliminary needs for change to the existing plan, which are summarized below. Preliminary needs for change are identified to respond to new requirements per the Forest Service's 2012 Land Management Planning Rule (36 CFR 219); to address changes in economic, social, and ecological conditions; and to use the best available scientific information. An assessment of the conditions and trends of the Forests' ecological, social, and economic resources, informed by public input, has helped to identify these preliminary needs for changing the existing Forest Plan. A summary of the preliminary needs for change follows.

Three overarching needs for change, or principles, emerged throughout the assessment process: (1) Provide direction that reflects the best available science and management approaches, and yet remains durable and relevant through time in our rapidly changing environment; (2) Provide more strategic, adaptive direction than the often prescriptive, tactical direction in the current Forest Plan. Adaptive direction should provide for greater durability; and (3) Create a plan that is more purposeful, accessible and useful to the public and agency personnel. The current Forest Plan is unwieldy and overly complicated.

These principles will be used to implement the requirements of the 2012 planning rule, which requires that the revised Forest Plan:

• Contribute to social and economic sustainability by providing people and communities with a range of social and economic benefits for present and future generations. These benefits include water, timber production, grazing, recreation, energy resources, and additional multiple uses.

• Provide for ecological sustainability by maintaining or restoring ecological integrity; air, soil and water; and riparian areas, taking into account stressors such as wildland fire, insect and disease, and changes in climate.

• Provide for ecological conditions to maintain the diversity of plant and animal communities, including additional consideration for threatened and endangered species, species of conservation concern, and species of public interest.

• Designate areas suitable for timber production and provide for sustainable recreation.

Furthermore, the 2012 planning rule requires the GMUG, during the Forest Plan revision process, to:

• Identify and evaluate lands that may be suitable for inclusion in the National Wilderness Preservation System.

• Identify eligible rivers for inclusion in the National Wild and Scenic Rivers System.

Proposed Action

The proposed action is to revise the Forest Plan in order to address these identified needs for change to the existing Forest Plan. The revised Forest Plan will include forest-wide and geographic/management area-specific desired conditions, goals, objectives, standards, guidelines, and the designation of lands suitable for timber production. Development of alternatives will be guided by the scoping process.

Responsible Official

The responsible official who will approve the Record of Decision for the GMUG National Forests' revised Forest Plan is Scott Armentrout, Forest Supervisor for the GMUG National Forests, 2250 S. Main St., Delta, CO 81416.

Nature of Decision To Be Made

The responsible official will decide whether the required plan components (desired conditions, goals, objectives, standards, guidelines, and suitability) are sufficient to promote the ecological integrity and sustainability of the GMUG National Forests' ecosystems, watersheds, and diverse plant and animal communities. In addition, the responsible official will decide whether the required plan components for the GMUG National Forests' multiple uses and ecosystem services are sufficient to contribute to social and economic sustainability for people and communities.

This proposed action is programmatic in nature and guides future implementation of site-specific projects. Additional National Environmental Policy Act (NEPA) compliance may be required for site-specific projects as part of a two-stage decision making process (40 CFR 1508.23, 42 U.S.C. 4322(2)(C)), 36 CFR 219.7(f)).

Scoping Process

This Notice of Intent initiates the scoping process, which guides the development of the Draft Forest Plan and Draft EIS. We are seeking your input to continue to develop the GMUG National Forests' revised Forest Plan.

Public webinars will be held to provide additional information and address questions related to this scoping notice. Dates and locations will be posted on the GMUG Forest Plan Revision website at http://www.fs.usda.gov/goto/gmug/forestplan and can be accessed by clicking on “Get Involved.” Any changes to the webinar schedule will be communicated on the same website.

It is important that reviewers provide their comments at such times and in such manner that they are useful to the agency's preparation of the EIS. Therefore, comments should be provided prior to the close of the comment period and should clearly articulate the reviewer's concerns as well as proposed solutions.

Decision Will be Subject to Objection

Only those individuals and entities who have submitted substantive formal comments related to the GMUG National Forests' plan revision during the formal opportunities provided for public comment (beginning with this Notice of Intent) throughout the planning process will be eligible to file an objection (36 CFR 219.53(a)). The decision to approve the revised Forest Plan for the GMUG National Forests will be subject to the objection process identified in 36 CFR 219 Subpart B (219.50 to 219.62).

Comments received in response to this solicitation, including names and addresses of those who comment, will be part of the public record for this proposed action. Comments submitted anonymously will be accepted and considered, however, anonymous comments will not provide the Agency with the ability to provide the respondent with subsequent environmental documents.

Documents Available for Review

The GMUG National Forest plan revision website at http://www.fs.usda.gov/goto/gmug/forestplan provides the full text of the preliminary need for change; distinctive role and contribution of the Forests; proposed management area framework; the 2018 assessments; public meeting materials from the assessment phase, including open house materials and recorded webinars; in public comments. The material available on these sites may be updated or revised at any time as part of the planning process.

The 2012 planning rule is explained in more detail on the Forest Service website at http://www.fs.usda.gov/detail/planningrule/home/?cid=stelprdb5359471.

Dated: March 28, 2018.
Glenn Casamassa,
Associate Deputy Chief, National Forest System.

[FR Doc. 2018-06686 Filed 4-2-18; 8:45 am]

BILLING CODE 3411-15-P